DEPARTMENT OF TRANSPORTATION

Federal Aviation Administration

PS-ACE100-2005-50001, Final Policy Statement on Applying Advisory Circular 20-152, “RTCA, Inc., Document RTCA/DO-254, Design Assurance Guidance for Airborne Electronic Hardware,” to Title 14 Code of Federal Regulations, Part 23 Aircraft

AGENCY: Federal Aviation Administration, DOT.

ACTION: Notice of issuance of policy.

SUMMARY: This notice announces the issuance of PS-ACE100-2005-50001. This Final Policy Statement sets up Federal Aviation Administration (FAA) certification policy on applying Advisory Circular (AC) 20-152 to complex airborne electronic hardware (CEH) installed in part 23 aircraft or in airships. This was issued for Public Comment on January 26, 2006. When possible, comments received were used to modify the draft policy.

DATES: Proposed PS-ACE100-2005-50001 was issued by the Manager, Small Airplane Directorate on January 6, 2006.

How To Obtain Copies: A paper copy of PS-ACE100-2005-50001 may be obtained by contacting Mr. Robin L. Sova, Standards Office, Small Airplane Directorate, Aircraft Certification Service, Kansas City, Missouri 64106, telephone (816) 329-4133, fax (816) 329-4090. The policy will also be available on the Internet at http://www.airweb.faa.gov/policy.

Issued in Kansas City, Missouri on January 26, 2007.
Kim Smith,
Manager, Small Airplane Directorate, Aircraft Certification Service.

[FR Doc. E7-2898 Filed 2-20-07; 8:45 am]

BILLING CODE 4910-13-P